DEPARTMENT OF LABOR

Employment and Training Administration

Notice on Reallotment of Workforce Innovation Opportunity Act (WIOA) Title I Formula Allotted Funds for Dislocated Worker Activities for Program Year (PY) 2021

AGENCY: Employment and Training Administration (ETA), Labor.

ACTION: Notice.

SUMMARY: The Workforce Innovation Opportunity Act (WIOA), requires the Secretary of Labor (Secretary) to conduct reallotment of certain WIOA formula allotted funds based on ETA 9130 financial reports submitted by states as of the end of the prior PY. This notice publishes the dislocated worker PY 2021 funds for recapture by state and the amount to be reallotted to eligible states.

DATES: This notice is effective February 10, 2022.

FOR FURTHER INFORMATION CONTACT: Ms. Kimberly Vitelli, Administrator, U.S. Department of Labor, Office of Workforce Investment, Employment and Training Administration, Room C-4510, 200 Constitution Avenue NW, Washington, DC Telephone (202) 693-3980 (this is not a toll-free number) or fax (202) 693-3981.

SUPPLEMENTARY INFORMATION: In the Fiscal Year (FY) 2021 Appropriations Act, Congress appropriated WIOA PY 2021 funds in two portions: (1) Funds available for obligation July 1, 2021 (i.e., PY 2021 “base” funds), and (2) funds available for obligation October 1, 2021 (i.e., FY 2022 “advance” funds). Together, these two portions make up the complete PY 2021 WIOA funding. Training and Employment Guidance Letter (TEGL) No. 19-20 announced WIOA allotments based on this appropriation and TEGL No. 16-19 alerted states to the recapture and reallotment of funds' provisions based on obligations of PY 2020 funding, as required under WIOA Section 132(c). This section and 127(c) of WIOA requires the Secretary of Labor (Secretary) to conduct reallotment of excess unobligated WIOA Adult, Youth, and Dislocated Worker formula funds based on ETA 9130 financial reports submitted by states at the end of the prior program year (i.e., PY 2020).

WIOA regulations at 20 CFR 683.135 describe the procedures the Secretary uses for recapture and reallotment of funds. ETA will not recapture any PY 2021 funds for the Adult and Youth programs because there are no states where PY 2020 unobligated funds exceed the statutory requirements of 20 percent of state allotted funds. However, for the Dislocated Worker program, Oklahoma had unobligated PY 2020 funds in excess of 20 percent of their allotments. Therefore, ETA will recapture a total of $89,236 from PY 2021 funding from Oklahoma and reallot those funds to the remaining eligible states, as required by WIOA Section 132(c).

ETA will issue a Notice of Award to the states to reflect the recapture and reallotment of these funds. ETA will make adjustments of funds to the FY 2022 advance portion of the PY 2021 allotments, which ETA issued in October 2021. The attached tables display the net changes to PY 2021 formula allotments.

WIOA and its implementing regulations are silent on how states must distribute realloted funds, so states have flexibility to determine the methodology used. For any state subject to recapture of funds, WIOA Section 132(c)(5) requires the Governor to prescribe equitable procedures for reacquiring funds from the state and local areas.

As mentioned, ETA will make the recapture/reallotment adjustments to the FY 2022 advance portion of the PY 2021 allotment. Therefore, for reporting purposes, states must reflect the recapture/reallotment amount (decrease or increase) in the “Total Federal Funds Authorized” line of any affected FY 2022 ETA 9130 financial reports (State Dislocated Worker Activities, Statewide Rapid Response, Local Dislocated Worker Activities) in a manner consistent with the method of distribution of these amounts to state and local areas used by the state. The state must include an explanation of the adjustment in the remarks section of the adjusted reports.

I. Attachment A

BILLING CODE 4510-FR-P

II. Attachment B

Angela Hanks,
Acting Assistant Secretary for Employment and Training.

[FR Doc. 2022-02762 Filed 2-9-22; 8:45 am]

BILLING CODE 4510-FR-C